DEPARTMENT OF HEALTH AND HUMAN SERVICES

Health Resources and Services Administration

National Advisory Council on Migrant Health; Cancellation of Meeting

Name: National Advisory Council on Migrant Health.

Dates and Times: May 21, 2013, 8:30 a.m. to 5:00 p.m., May 22, 2013, 8:00 a.m. to 12:00 p.m.

Status: The meeting of the National Advisory Council on Migrant Health, scheduled for May 21 and 22, 2013, is cancelled. This cancellation applies to all sessions of the meeting. The meeting was announced in the Federal Register of April 17, 2013 (78 FR 22890).

FOR FURTHER INFORMATION CONTACT: Gladys Cate, Public Health Analyst, Office of National Assistance and Special Populations, Bureau of Primary Health Care, Health Resources and Services Administration, 5600 Fishers Lane, Room 15-74, Rockville, Maryland 20857; telephone (301) 594-0367.

Dated: May 7, 2013.
Bahar Niakan,
Director, Division of Policy and Information Coordination.

[FR Doc. 2013-11259 Filed 5-10-13; 8:45 am]

BILLING CODE 4165-15-P